DEPARTMENT OF JUSTICE

National Institute of Corrections

Solicitation for a Cooperative Agreement—Employment Retention Inventory Validation

AGENCY: National Institute of Corrections, U.S. Department of Justice.

ACTION: Solicitation for a cooperative agreement.

SUMMARY: The National Institute of Corrections (NIC) is soliciting proposals from organizations, groups, or individuals to enter into a cooperative agreement for a 24-month period to begin no later than September 15, 2013. Work under this cooperative agreement will involve the evaluation of the Employment Retention Inventory (ERI), which supports the case management efforts of workforce development practitioners. Specifically, the goal of this project is to determine whether the ERI effectively identifies the precursors, obstacles, and personality traits that influence an offender's separation from the workforce. In addition, this project will explore the relationship between offender employment retention and recidivism. The major deliverables of this project include (1) the use of a system to capture and evaluate data and (2) a written report that summarizes project findings, recommendations, and potential next steps. This project will be a collaborative venture with the NIC Community Services Division.

NIC Opportunity Number: 13CS11. This number should appear in the reference line in your cover letter, on Standard Form 424 in section 11 with the title of your proposal, and in the right justified header of your proposal.

Number of Awards and Funds Available: Under this solicitation, one (1) award will be made. The total amount of funds available under this solicitation is $150,000.00.

Applications: All applicants must be submitted electronically via http://www.grants.gov. Hand delivered, mailed, faxed, or emailed applications will not be accepted.

DATES: Application must be submitted before midnight on Monday, July 8, 2013.

Authority: Public Law 93-415

Eligibility of Applicants: An eligible applicant is any public or private agency, educational institution, organization, individual or team with expertise in the described areas.

SUPPLEMENTARY INFORMATION: Background: In 2010, the National Institute of Corrections entered into an 18-month cooperative agreement to develop a competency-based training curriculum to provide practitioners with the knowledge and skills needed for the provision of employment retention services for those identified as having barriers to sustained employment. This curriculum, based on evidence-based practices, combined cognitive behavioral principles with motivational interviewing techniques to broaden the ability of the practitioner to develop strategies for change while improving offender outcomes through collaboration with stakeholders; practitioners increased their knowledge in employment retention, career development theory and application, facilitation skills, and transitional intervention. Combining these two research-based methods helps the offender create a solid foundation for self-exploration and change—guided by a “spirit” that supports the offender's self-examination to resolve ambivalence to change. In addition, the ERI was developed to identify precursors to job loss and/or recidivism while creating a process for connecting targeted populations to specialized services that address their risk for job loss and recidivism successfully.

Offender workforce development programing should target offenders found to be at medium/high risk for job loss and return to criminal activities. It should be based on standardized and validated risk and specialized assessment instruments. Practitioners having the competencies to assist offenders in becoming successful at maintaining a long-term connection to the workforce will be able to assess those at high risk for job loss, identify specific indicators, and analyze the chain of events and behaviors that lead to separation from the workforce and recidivism. This project will contribute to the body of knowledge currently available specific to offender workforce development while also contributing to the shaping of effective policy and practice for establishing and maintaining employment services that successfully engage medium- to high-risk offenders.

Scope of Work: The tasks to be performed under this cooperative agreement include (1) review of documents directly related to NIC's Employment Retention Initiative, (2) participation in an initial meeting with designated NIC staff for a project overview and preliminary planning session, (3) identification and/or justification of the research design methodology, (4) identification of target populations, (5) determination of data measurements and collection procedure, (6) development of a final report that summarizes the project—suggesting next steps and/or follow up work specific to NIC's Employment Retention Initiative, (7) participation in a national platform to discuss lessons learned, and (8) a presentation on findings to NIC executive staff.

Deliverables: Under this cooperative agreement, the awardee is expected to produce (1) eight quarterly reports reflecting the progress of the project, (2) an electronic system to capture and track data, (3) a written report reflecting project findings and/or recommendations, and (4) an electronic presentation reflecting project findings and/or recommendations.

FOR FURTHER INFORMATION CONTACT: All technical or programmatic questions concerning this announcement should be directed to P. Elizabeth Taylor, Correctional Program Specialist, National Institute of Corrections who may be reached by email at petaylor@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” 13CS11 and title in this announcement, “Employment Retention Inventory Validation.” The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf

Failure to supply all required forms with the application package may result in disqualification of the application from consideration.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goals(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions; Subpart C, Functional Performance Criteria; and Subpart D, Documentation and Support. NIC's government product accessibility template (see www.nicic.gov/section508) outlines the agency's minimum criteria for meeting this requirement; a completed form attesting to the accessibility of project deliverables should accompany all submissions.

Note Concerning Catalog of Federal Domestic Assistance Number: Since this application is classified under Training and Staff Development, enter 16.601 in section 10 of the SF-424. You are not subject to the provisions of Executive Order 12372 and should check Box b. in section 16.

Robert Brown, Jr.,
Acting Director, National Institute of Corrections.

[FR Doc. 2013-13949 Filed 6-11-13; 8:45 am]

BILLING CODE 4410-36-P